DEPARTMENT OF ENERGY

Federal Energy Regulatory Commission

[Docket No. RM93-11-000]

Revisions to Oil Pipeline Regulations Pursuant to the Energy Policy Act of 1992; Notice of Annual Change in the Producer Price Index for Finished Goods

May 14, 2009.

The Commission's regulations include a methodology for oil pipelines to change their rates through use of an index system that establishes ceiling levels for such rates. The Commission bases the index system, found at 18 CFR 342.3, on the annual change in the Producer Price Index for Finished Goods (PPI-FG), plus one point three percent (PPI+1.3). The Commission determined in an “Order Establishing Index for Oil Price Change Ceiling Levels” issued March 21, 2006, that PPI+1.3 is the appropriate oil pricing index factor for pipelines to use.¹

¹ 114 FERC ¶ 61,293 at P 2 (2006).

The regulations provide that the Commission will publish annually, an index figure reflecting the final change in the PPI-FG, after the Bureau of Labor Statistics publishes the final PPI-FG in May of each calendar year. The annual average PPI-FG index figures were 166.6 for 2007 and 177.1 for 2008.² Thus, the percent change (expressed as a decimal) in the annual average PPI-FG from 2007 to 2008, plus 1.3 percent, is positive 0.076025.³ Oil pipelines must multiply their July 1, 2008, through June 30, 2009, index ceiling levels by positive 1.076025 ⁴ to compute their index ceiling levels for July 1, 2009, through June 30, 2010, in accordance with 18 CFR 342.3(d). For guidance in calculating the ceiling levels for each 12 month period beginning January 1, l995,⁵ see Explorer Pipeline Company, 71 FERC 61,416 at n.6 (1995).

² Bureau of Labor Statistics (BLS) publishes the final figure in mid-May of each year. This figure is publicly available from the Division of Industrial Prices and Price Indexes of the BLS, at (202) 691-7705, and in print in August in Table 1 of the annual data supplement to the BLS publication Producer Price Indexes via the Internet at http://www.bls.gov/ppi/home.htm. To obtain the BLS data, scroll down to “PPI Databases” and click on “Top Picks” of the Commodity Data (Producer Price Index—PPI). At the next screen, under the heading “Producer Price Index/PPI Commodity Data,” select the first box, “Finished goods—WPUSOP3000,” then scroll all the way to the bottom of this screen and click on Retrieve data.

³ [177.1 − 166.6] / 166.6 = 0.063025 + .013 = 0.076025.

⁴ 1 + 0.076025 = 1.076025.

⁵ For a listing of all prior multipliers issued by the Commission, see the Commission's Web site, http://www.ferc.gov. The table of multipliers can be found under the headings “Oil” and “Index.”

In addition to publishing the full text of this Notice in the Federal Register, the Commission provides all interested persons an opportunity to view and/or print this Notice via the Internet through FERC's Home Page (http://www.ferc.gov) and in FERC's Public Reference Room during normal business hours (8:30 a.m. to 5 p.m. Eastern time) at 888 First Street, NE., Room 2A, Washington, DC 20426. The full text of this Notice is available on FERC's Home Page at the eLibrary link. To access this document in eLibrary, type the docket number excluding the last three digits of this document in the docket number field and follow other directions on the search page.

User assistance is available for eLibrary and other aspects of FERC's Web site during normal business hours. For assistance, please contact the Commission's Online Support at 1-866-208-3676 (toll free) or 202-502-6652 (e-mail at FERCOnlineSupport@ferc.gov), or the Public Reference Room at (202) 502-8371, TTY (202) 502-8659. E-Mail the Public Reference Room at public.referenceroom@ferc.gov.

Kimberly D. Bose,
Secretary.

[FR Doc. E9-11794 Filed 5-20-09; 8:45 am]

BILLING CODE 6717-01-P